DEPARTMENT OF COMMERCE

Patent and Trademark Office

[Docket No. 2003-C-015]

Public Advisory Committees

AGENCY: United States Patent and Trademark Office, Commerce.

ACTION: Notice and request for nominations.

SUMMARY: On November 29, 1999, the President signed into law the Patent and Trademark Office Efficiency Act (the “Act”), Pub. L. 106-113, Appendix I, Title IV, Subtitle G, 113 Stat. 1501A-572, which, among other things, established two Public Advisory Committees to review the policies, goals, performance, budget and user fees of the United States Patent and Trademark Office (USPTO) with respect to patents, in the case of the Patent Public Advisory Committee, and with respect to trademarks, in the case of the Trademark Public Advisory Committee, and to advise the Director on these matters. The USPTO is requesting nominations for three (3) members to each Public Advisory Committee for terms that begin July 13, 2003.

DATES: Nominations must be received or electronically transmitted on or before May 12, 2003.

ADDRESSES: Persons wishing to submit nominations should send the nominee's resume to Chief of Staff, Office of the Under Secretary of Commerce for Intellectual Property and Director of the USPTO, Washington, DC 20231; by electronic mail to: PPACnominations@uspto.gov for the Patent Public Advisory Committee or TPACnominations@uspto.gov for the Trademark Patent Public Advisory Committee; by facsimile transmission marked to the Chief of Staff's attention at (703) 305-8664; or by mail marked to the Chief of Staff's attention and addressed to the Office of the Under Secretary and Director of the USPTO, Washington, DC 20231.

FOR FURTHER INFORMATION CONTACT: Chief of Staff by facsimile transmission marked to his attention at (703) 305-8664, or by mail marked to his attention and addressed to the Office of the Under Secretary and Director of the USPTO, Washington, DC 20231.

SUPPLEMENTARY INFORMATION: Under the Act, the then-Acting Secretary of Commerce appointed members to the Patent and Trademark Public Advisory Committees on July 12, 2000. The Advisory Committees' duties include:

• Review and advise the Under Secretary and Director of the USPTO on matters relating to policies, goals, performance, budget, and user fees of the USPTO relating to patents and trademarks, respectively; and

• Within 60 days after the end of each fiscal year: (1) Prepare an annual report on matters listed above; (2) transmit a report to the Secretary of Commerce, the President, and the Committees on the Judiciary of the Senate and the House of Representatives; and (3) publish the report in the Official Gazette of the USPTO.

Members of the Patent and Trademark Public Advisory Committees are appointed by and serve at the pleasure of the Secretary of Commerce for three (3)-year terms.

Advisory Committees

The Public Advisory Committees are each composed of nine (9) voting members who are appointed by the Secretary of Commerce (the “Secretary”) and who have substantial backgrounds and achievement in finance, management, labor relations, science, technology, and office automation.” 35 U.S.C. 5(b)(3). The Public Advisory Committee members must be United States citizens and represent the interests of diverse users of the USPTO both large and small entity applicants in proportion to the number of such applications filed. In the case of the Patent Public Advisory Committee, at least twenty-five (25) percent of the members must represent “small business concerns, independent inventors, and nonprofit organizations,” and at least one member must represent the independent inventor community. 35 U.S.C. 35(b)(2). Each of the Public Advisory Committees also includes three (3) non-voting members representing each labor organization recognized by the USPTO.

Procedures and Guidelines of the Patent and Trademark Public Advisory Committees

Each newly appointed member of the Patent and Trademark Public Advisory Committees will serve for a term of three years. Members appointed in the current fiscal year shall serve from July 13, 2003, through July 12, 2006. As required by the Act, members of the Patent and Trademark Public Advisory Committees will receive compensation for each day while the member is attending meetings or engaged in the business of that Advisory Committee. The rate of compensation is the daily equivalent of the annual rate of basic pay in effect for level III of the Executive Schedule under section 5314 of title 5, United States Code. While away from home or regular place of business, each member will be allowed travel expenses, including per diem in lieu of subsistence, as authorized by Section 5703 of Title 5, United States Code. The USPTO will provide the necessary administrative support, including technical assistance for the Committees.

Applicability of Certain Ethics Laws

Members of each Public Advisory Committee shall be special Government employees within the meaning of Section 202 of Title 18, United States Code. The following additional information assumes that members are not engaged in Public Advisory Committee business more than sixty days during each calendar year:

• Each member will be required to file a confidential financial disclosure form within thirty (30) days of appointment. 5 CFR 2634.202(c), 2634.204, 2634.903, and 2634.904(b).

• Each member will be subject to many of the public integrity laws, including criminal bars against representing a party, 18 U.S.C. 205(c), in a particular matter that came before the member's committee and that involved at least one specific party. See also 18 U.S.C. 207 for post-membership bars. A member also must not act on a matter in which the member (or any of certain closely related entities) has a financial interest. 18 U.S.C. 208.

• Representation of foreign interests may also raise issues. 35 U.S.C. 5(a)(1) and 18 U.S.C. 219.

Meetings of the Patent and Trademark Public Advisory Committees

Meetings of each Advisory Committee will take place at the call of the Chair to consider an agenda set by the Chair. Meetings may be conducted in person, electronically through the Internet, or by other appropriate means. The meetings of each Advisory Committee will be open to the public except each Advisory Committee may, by majority vote, meet in executive session when considering personnel or other confidential matters. Nominees must also have the ability to participate in Committee business through the Internet.

Procedures for Submitting Nominations

Submit resumes for nomination for the Patent Public Advisory Committee and the Trademark Public Advisory Committee to: Chief of Staff, United States Patent and Trademark Office, Washington, DC 20231.

Dated: March 31, 2003.
James E. Rogan,
Under Secretary of Commerce for Intellectual Property and Director of the United States Patent and Trademark Office.

[FR Doc. 03-8216 Filed 4-3-03; 8:45 am]

BILLING CODE 3510-16-P